DEPARTMENT OF COMMERCE

International Trade Administration

[A-570-601]

Tapered Roller Bearings and Parts Thereof, Finished and Unfinished, From the People's Republic of China; Final Results of 1999-2000 Administrative Review, Partial Rescission of Review, and Determination Not To Revoke Order in Part

AGENCY: Import Administration, International Trade Administration, Department of Commerce.

ACTION: Notice of final results of 1999-2000 administrative review, partial rescission of the review, and determination not to revoke the order in part.

SUMMARY: We have determined that sales of tapered roller bearings and parts thereof, finished and unfinished, from the People's Republic of China, were made below normal value during the period June 1, 1999, through May 31, 2000. Based on our review of comments received and a reexamination of surrogate value data, we have made certain changes in the margin calculations of all of the reviewed companies. Consequently, the final results differ from the preliminary results. The final weighted-average dumping margins for these firms are listed below in the section entitled “Final Results of the Review.” Based on these final results of review, we will instruct the Customs Service to assess antidumping duties based on the difference between the export price and normal value on all appropriate entries.

Weihai Machinery Holding (Group) Co., China National Machinery Import & Export Corporation, Wanxiang Group Corporation, and Zhejiang Machinery Import & Export Corp. have requested revocation of the antidumping duty order in part. Based on record evidence, we find that none of these companies qualify for revocation. Accordingly, we are not revoking the order with respect to the subject merchandise produced and exported by these four companies.

EFFECTIVE DATE: November 15, 2001.

FOR FURTHER INFORMATION CONTACT: Melani Miller, Jarrod Goldfedder, Anthony Grasso, or Andrew McAllister, Group 1, Office I, Antidumping/Countervailing Duty Enforcement, Import Administration, International Trade Administration, U.S. Department of Commerce, 14th Street and Constitution Avenue NW., Washington, DC 20230; telephone (202) 482-0116, (202) 482-0189, (202) 482-3853, and (202) 482-1174, respectively.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department”) regulations are to 19 CFR part 351 (2001).

Background

On July 10, 2001, the Department published the preliminary results of this review of tapered roller bearings and parts thereof, finished and unfinished (“TRBs”) from the People's Republic of China (“PRC”). See Tapered Roller Bearings and Parts Thereof, Finished and Unfinished, From the People's Republic of China: Preliminary Results of 1999-2000 Administrative Review, Partial Rescission of Review, and Notice of Intent Not to Revoke Order in Part, 66 FR 35937 (July 10, 2001) (“Preliminary Results”). The period of review (“POR”) is June 1, 1999, through May 31, 2000. This review covers the following exporters (referred to collectively as “the respondents”): Wanxiang Group Corporation (“Wanxiang”), China National Machinery Import & Export Corporation (“CMC”), Liaoning MEC Group Co. Ltd. (“Liaoning”), Premier Bearing & Equipment Ltd. (“Premier”), Tianshui Hailin Import and Export Corporation and Hailin Bearing Factory (“Hailin”), Weihai Machinery Holding (Group) Co., Ltd. (“Weihai”), Wafangdian Bearing Group Corp. Import & Export Company (“Wafangdian”), Luoyang Bearing Corporation (Group) (“Luoyang”), Zhejiang Machinery Import & Export Corp. (“ZMC”), Zhejiang Changshan Changhe Bearing Corp. (“ZCCBC”), Chin Jun Industrial Ltd. (“Chin Jun”).

We invited parties to comment on the Preliminary Results. On September 7, 2001, we received case briefs from the Timken Company (“the petitioner”), as well as a combined case brief from CMC, Luoyang, Wanxiang, Hailin, Weihai, and ZMC. On September 17, 2001, each of these parties also submitted rebuttal briefs. Because the combined rebuttal brief filed by CMC, Luoyang, Wanxiang, Hailin, and Weihai contained unsolicited new information, we returned that submission to the counsel for these companies. A revised rebuttal brief from these companies was filed on September 24, 2001. At the request of certain interested parties, we held a hearing on October 10, 2001.

The Department has conducted this administrative review in accordance with section 751 of the Act.

Scope of Review

Merchandise covered by this review is TRBs from the PRC; flange, take up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order and this review is dispositive.

Rescission of Review in Part

As noted in the Preliminary Results, on September 22 and November 3, 2000, ZCCBC and Liaoning, respectively, requested that the Department rescind the review with respect to these companies. Pursuant to 19 CFR 351.213(d)(1), because ZCCBC and Liaoning withdrew their requests for reviews within 90 days of the date of publication of the notice of initiation of this review and no other party requested a review of these companies, we rescinded the review with respect to ZCCBC and Liaoning.

Also, with respect to Chin Jun, as stated in the Preliminary Results, Chin Jun reported no shipments of subject merchandise to the United States during the POR. Entry data provided by the Customs Service confirms that there were no POR entries from Chin Jun of TRBs. Therefore, consistent with the Department's regulations and practice, we are rescinding this review with respect to Chin Jun. (See 19 CFR 351.213(d)(3); Silicon Metal from Brazil; Final Results of Antidumping Duty Administrative Review, 61 FR 46763 (September 5, 1996).)

Finally, as noted in the Preliminary Results, because the order with respect to Wafangdian was revoked in Tapered Roller Bearings and Parts Thereof, Finished and Unfinished, From the People's Republic of China; Amended Final Results of 1998-1999 Administrative Review and Determination to Revoke Order in Part, 66 FR 11562 (February 26, 2001) (“TRBs XII Amended Final”), we terminated this review with respect to Wafangdian.

Determination Not To Revoke Order, In Part

The Department “may revoke, in whole or in part” an antidumping duty order upon completion of a review under section 751 of the Act. While Congress has not specified the procedures that the Department must follow in revoking an order, the Department has developed a procedure for revocation that is described in 19 CFR 351.222. This regulation requires, inter alia, that a company requesting revocation must submit the following: (1) A certification that the company has sold the subject merchandise at not less than normal value (“NV”) in the current review period and that the company will not sell at less than NV in the future; (2) a certification that the company sold the subject merchandise in each of the three years forming the basis of the request in commercial quantities; and (3) an agreement to reinstatement of the order if the Department concludes that the company, subsequent to the revocation, sold subject merchandise at less than NV. See 19 CFR 351.222(e)(1). Upon receipt of such a request, the Department may revoke an order, in part, if it concludes that (1) the company in question has sold subject merchandise at not less than NV for a period of at least three consecutive years; (2) it is not likely that the company will in the future sell the subject merchandise at less than NV; and (3) the company has agreed to its immediate reinstatement in the order if the Department concludes that the company, subsequent to the revocation, sold subject merchandise at less than NV. See 19 CFR 351.222(b)(2).

As noted in the Preliminary Results, pursuant to 19 CFR 351.222(e)(1), Weihai, CMC, Wanxiang, and ZMC requested revocation of the antidumping duty order, in part, based on an absence of dumping for each company for at least three consecutive years. Wafangdian also requested revocation of the antidumping duty order with respect to its sales. However, because the order with respect to Wafangdian was revoked in the TRBs XII Amended Final, we do not need to address Wafangdian's request for revocation in this review.

In accordance with 19 CFR 351.222(e), Weihai, CMC, Wanxiang, and ZMC's requests were accompanied by certifications that they had sold the subject merchandise at not less than normal value during the current period of review and would not sell the subject merchandise at less than normal value in the future. They further certified that they sold the subject merchandise to the United States in commercial quantities for a period of at least three consecutive years. The companies also agreed to the immediate reinstatement of the antidumping duty order if the Department concludes that, subsequent to the revocation, the companies sold the subject merchandise at less than normal value.

In Tapered Roller Bearings and Parts Thereof, Finished and Unfinished, From the People's Republic of China; Final Results of 1998-1999 Administrative Review, Partial Rescission of Review, and Notice of Intent to Revoke Order in Part, 66 FR 1953 (January 10, 2001) and the TRBs XII Amended Final (collectively, “TRBs XII”), CMC and ZMC were found to have made sales below normal value. Moreover, as noted in the “Final Results of the Review” section, below, CMC was found to have made sales below normal value in the instant review. Because CMC and ZMC do not have three consecutive years of sales at not less than normal value, CMC and ZMC do not qualify for revocation of the order on TRBs pursuant to 19 CFR 351.222(b).

As for Weihai, as noted in the Preliminary Results, Weihai first participated in this proceeding as a new shipper. See Tapered Roller Bearings and Parts Thereof, Finished and Unfinished, From the People's Republic of China; Preliminary Results of New Shipper Review, 64 FR 45511 (August 20, 1999); Tapered Roller Bearings and Parts Thereof, Finished and Unfinished, From the People's Republic of China; Final Results of 1997-1998 Antidumping Duty Administrative Review and Final Results of New Shipper Review, 64 FR 61837 (November 15, 1999) (“TRBs XI and NSR”). TRBs XI and NSR covered the period June 1, 1998 through November 30, 1998. Subsequently, Weihai participated in TRBs XII, which covered the period June 1, 1998 through May 31, 1999. See TRBs XII. Finally, Weihai is participating in the instant review, which covers the period June 1, 1999 through May 31, 2000. Since the time period covered by TRBs XI and NSR is included in the time period covered by TRBs XII, the Department has reviewed only two years of Weihai's shipments. Thus, Weihai has not sold the subject merchandise at not less than normal value for a period of at least three consecutive years and, accordingly, does not qualify for revocation in this review.

Finally, with respect to Wanxiang, in TRBs XII we determined that Wanxiang did not qualify for revocation because it did not sell the subject merchandise in the United States in commercial quantities in each of the three years underlying its request for revocation. Based on our determination that Wanxiang did not make sales in commercial quantities during the PORs of TRBs XII and TRBs XI and NSR, we do not need to examine whether Wanxiang made sales in commercial quantities during the instant review. Because Wanxiang did not make sales in commercial quantities in each of the three years cited by the company to support its revocation request, Wanxiang does not qualify for revocation pursuant to19 CFR 351.222(b).

Use of Facts Otherwise Available

As noted in the Preliminary Results, pursuant to section 776(a)(2) of the Act, we have determined that the use of facts available is warranted with respect to Premier. As explained in the Preliminary Results, and discussed in section 776(a)(2)(B) of the Act, Premier failed to provide information requested by the Department by the deadlines for submission of this information. Moreover, as Premier did not provide a response to the Department's questionnaire by the deadlines for submission of this information, we have determined that Premier failed to cooperate by not acting to the best of its ability to comply with a request for information. Thus, pursuant to section 776(b) of the Act, we have determined that the use of an adverse inference is appropriate in choosing from among the facts available for Premier. Additionally, as discussed in the Preliminary Results, we have determined that companies which did not respond to the questionnaire, including Premier, should not receive separate rates. No party in this proceeding has commented on this issue since the publication of the Preliminary Results. Thus, for these final results, we have continued to assign the PRC-wide rate of 33.18 percent to Premier.

Analysis of Comments Received

All issues raised in the case and rebuttal briefs by parties to this administrative review are addressed in the “Issues and Decision Memorandum” (“Decision Memo”) from Richard W. Moreland, Deputy Assistant Secretary, Import Administration, to Faryar Shirzad, Assistant Secretary for Import Administration, dated November 7, 2001, which is hereby adopted by this notice. A list of the issues which parties have raised and to which we have responded, all of which are in the Decision Memo, is attached to this notice as an Appendix. Parties can find a complete discussion of all issues raised in this review and the corresponding recommendations in this public memorandum, which is on file in the Central Records Unit, room B-099 of the main Department building. In addition, a complete version of the Decision Memo can be accessed directly on the Web at http://ia.ita.doc.gov/frn/summary/list.htm. The paper copy and electronic version of the Decision Memo are identical in content.

Changes Since the Preliminary Results

Based on our review of comments received and a reexamination of surrogate value data, we have made certain changes to the calculations for the final results. These changes are discussed in the following Comments in the Decision Memo or in the referenced final calculation memoranda for particular companies:

All Companies

Valuation of Certain Steel Inputs; Comments 3 through 6

Inflation Adjustment; Comment 8

CMC

We revised CMC's calculations to take into account a minor reporting error made by CMC for one of its reported factors that it discovered after the Preliminary Results.

Luoyang

We valued certain TRBs components that we were not able to value in the Preliminary Results due to insufficient information. See Comment 16.

Final Results of Review

We determine that the following dumping margins exist for the period June 1, 1999, through May 31, 2000:

Exporter/manufacturer | Weighted-average margin percentage
Weihai Machinery Holding (Group) Co | 0.00
China National Machinery Import & Export Corporation | 4.64
Wanxiang Group Corporation | 0.00
Tianshui Hailin Import and Export Corporation and Hailin Bearing Factory | 0.00
Luoyang Bearing Corporation (Group) | ¹ 0.49
Zhejiang Machinery Import & Export Corp | ¹ 0.03
PRC-wide rate (including Premier Bearing & Equipment Ltd.) | 33.18
¹ de minimus.

Assessment Rates

Pursuant to 19 CFR 351.212(b), the Department calculates an assessment rate for each importer of the subject merchandise. Because certain importer-specific assessment rates calculated in these final results are above de minimis (i.e., at or above 0.5 percent), the Department will issue appraisement instructions directly to the Customs Service to assess antidumping duties on appropriate entries by applying the assessment rate to the entered value of the merchandise. For assessment purposes, we calculate importer-specific assessment rates for the subject merchandise by aggregating the dumping duties due for all U.S. sales to each importer and dividing the amount by the total entered value of the sales to that importer.

Cash Deposit Requirements

The following cash deposit requirements will be effective upon publication of the final results of this administrative review for all shipments of the subject merchandise entered, or withdrawn from warehouse, for consumption on or after the publication date, as provided for by section 751(a)(1) of the Act: (1) For the PRC companies named above, the cash deposit rates will be the rates for these firms established in the final results of this review, except that, for exporters with de minimis rates (i.e., less than 0.5 percent) no deposit will be required; (2) for previously-reviewed PRC and non-PRC exporters with separate rates, the cash deposit rate will be the company-specific rate established for the most recent period during which they were reviewed; (3) for all other PRC exporters, the rate will be the PRC country-wide rate, which is 33.18 percent; and (4) for all other non-PRC exporters of subject merchandise from the PRC, the cash deposit rate will be the rate applicable to the PRC supplier of that exporter. These deposit requirements, when imposed, shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 771(i) of the Act.

Dated: November 7, 2001.
Faryar Shirzad,
Assistant Secretary for Import Administration.

Appendix

List of Comments and Issues in the Decision Memorandum

Comment 1: Market Economy Steel Values

Comment 2: Addition of Inventory Carrying Costs to Market Economy Steel Values

Comment 3: Steel Used to Value Cups and Cones

Comment 4: Adding Ocean Freight and Marine Insurance to the Japanese Exports to India Data

Comment 5: Use of Indonesian Steel Import Statistics for Valuing Rollers

Comment 6: Steel Input Used to Value Cages

Comment 7: Labor Costs

Comment 8: Inflation Adjustment

Comment 9: Revocations

Comment 10: Rescinding Reviews of Hailin and Weihai

Comment 11: CMC's Market Economy Steel Values

Comment 12: Use of Adverse Facts Available for Products Sourced from Unaffiliated CMC Suppliers

Comment 13: CMC's U.S. Inventory Carrying Costs

Comment 14: CMC's U.S. Duty and U.S. Inland Freight Expenses

Comment 15: Hailin's Scrap Offset

Comment 16: Valuation of Certain Luoyang TRB Components

Comment 17: Luoyang Energy Factors

Comment 18: Wanxiang's Transport Distances

Comment 19: Wanxiang's Energy Factors

Comment 20: Weihai SG&A and Labor

Comment 21: ZMC's Financial Statements

Comment 22: ZMC's Energy Factors

[FR Doc. 01-28651 Filed 11-14-01; 8:45 am]

BILLING CODE 3510-DS-P